DEPARTMENT OF AGRICULTURE

Animal and Plant Health Inspection Service

[Docket No. APHIS-2019-0005]

Environmental Impact Statement for Predator Damage Management in Idaho

AGENCY: Animal and Plant Health Inspection Service, USDA.

ACTION: Notice of proposed scope of study.

SUMMARY: The Animal and Plant Health Inspection Service plans to prepare an environmental impact statement (EIS) analyzing alternatives for predator damage management in Idaho. This notice proposes issues and alternatives for consideration in the EIS and requests public comments to further delineate the scope of the alternatives, the environmental issues, and other issues of public concern to be considered.

DATES: We will consider all comments that we receive on or before July 10, 2019.

ADDRESSES: You may submit comments by either of the following methods:

• Federal eRulemaking Portal: Go to https://www.regulations.gov/docket?D=APHIS-2019-0005.

• Postal Mail/Commercial Delivery: Send your comment to Project Manager, Idaho Predator Damage Management EIS, USDA APHIS-Wildlife Services, 2150 Centre Avenue, Building B, Mail Stop 3W9, Fort Collins, CO 80526-8117.

Supporting documents and any comments received on this topic may be viewed at https://www.regulations.gov/docket?D=APHIS-2019-0005 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Mr. Kirk Gustad, Idaho Predator Damage EIS Project Manager, USDA-APHIS-Wildlife Services, 2150 Centre Avenue, Building B, Mail Stop 3W9, Fort Collins, CO 80526-8117; phone 970-494-7214.

SUPPLEMENTARY INFORMATION:

Background

On March 4, 2019, the Animal and Plant Health Inspection Service (APHIS) published in the Federal Register (84 FR 7326, Docket No. APHIS-2019-0005) a notice ¹ informing the public of APHIS' intent to prepare an environmental impact statement (EIS) analyzing alternatives for predator damage management (PDM) in Idaho. Predators provide many positive ecological, cultural, economic, and aesthetic benefits. However, they may also be involved in conflicts with humans including preying upon or harassing livestock; damaging other agricultural resources and property; and threatening human health and safety. In limited instances, predation may impede wildlife management agency efforts to enhance populations of prey species such as threatened or endangered species or ungulate populations. Over calendar years 2014-2018, Wildlife Services (WS), a program within APHIS, responded to more than 500 requests per year for information or assistance in reducing conflicts with predators in Idaho. Requests for assistance may come from the public, private entities, other agencies, and Native American Tribes.

¹ To view the notice, go to https://www.regulations.gov/docket?D=APHIS-2019-0005.

APHIS-WS in Idaho currently uses an integrated approach to PDM involving access to the full range of legally available nonlethal and lethal PDM methods to reduce conflicts with coyotes, gray wolves, black bears, grizzly bears, mountain lions, bobcats, red foxes, striped skunks, raccoons, badgers, feral and free-ranging dogs and cats, western spotted skunks, mink, long-tailed weasels, short-tailed weasels, common ravens, black-billed magpies, American crows, bald eagles, and golden eagles. Assistance may be in the form of advice, depredation investigations, information on sources of PDM materials, training and loan of equipment (technical assistance), or hands-on assistance with implementing PDM methods (operational assistance). Methods are applied in accordance with applicable Federal, State, Tribal, and local regulations. Work plans are developed and renewed annually with land management agencies to address specific activities and restrictions required to safely conduct PDM on public lands in a manner consistent with applicable land management agency policies and resource management plans.

Methods used or recommended for use by APHIS-WS may include changes to agricultural practices, capture and relocation, livestock guarding animals, habitat modification, exclusion, frightening devices, avian repellents, carcass disposal, human behavior modification (e.g., trash management and not feeding wildlife), shooting from the ground or from aircraft, denning (only for coyote and fox damage management), gas cartridges (only for coyote and fox damage management), snares, traps, the avicide DRC-1339 (only for raven and magpie damage management), and trained decoy and tracking dogs. Preference is given to practical and effective nonlethal methods, but in some cases concurrent use of nonlethal and lethal methods or immediate use of lethal methods may be the most appropriate solution (e.g., threats to human safety).

APHIS-WS' authorization to provide this service was established by Congress in the Acts of March 2, 1931 (7 U.S.C. 8351-8352), as amended, and December 22, 1987 (7 U.S.C. 8353). APHIS-WS' PDM activities in Idaho also are authorized and coordinated through memoranda of understanding with the Idaho Department of Fish and Game, Idaho State Department of Agriculture, Idaho Wolf Depredation Control Board, Idaho State Animal Damage Control Board, Idaho Department of Lands, the U.S. Forest Service, and the U.S. Department of the Interior's Bureau of Land Management. APHIS-WS' actions also must be conducted in accordance with applicable Federal, State, and Tribal laws, regulations, species management plans, and land management plans.

Proposed Action

APHIS-WS is preparing an EIS to evaluate alternatives for agency involvement in managing damage and conflicts associated with predators in Idaho. Once completed, the EIS will replace APHIS-WS' environmental assessments on predator damage management in Southern Idaho, predator damage management in Northern and Central Idaho, and gray wolf damage management in Idaho.

Scoping

Please review the information in this notice and the supplemental information in our supplement, “Invitation for Public Involvement,” which may be obtained from the person listed under FOR FURTHER INFORMATION CONTACT and viewed on the Regulations.gov website or in our reading room (see ADDRESSES above for a link to Regulations.gov and information on the location and hours of the reading room). Comments that will assist in further delineating the scope of alternatives, and environmental impacts and other issues of public concern that should be addressed in the analysis are encouraged. Please also submit any scientific data, studies, or research that you feel is relevant to the analysis.

Alternatives

The EIS will consider a range of reasonable alternatives that will include a “no action” alternative, which can be defined as a continuation of the ongoing management practices described above, in accordance with the Council on Environmental Quality's regulations for implementing the procedural provisions of the National Environmental Policy Act (NEPA) (7 CFR parts 1500-1508). Suggestions for other alternatives that could be considered are listed below. Additional recommendations for management alternatives to be advanced for detailed analysis are welcome.

• Current integrated PDM activities with PDM activities in Wilderness and Wilderness Study Areas limited to the protection of human health and safety.

• APHIS-WS uses and recommends only nonlethal PDM methods.

• APHIS-WS only uses lethal PDM methods after it is confirmed and recorded that reasonable nonlethal methods were employed by APHIS-WS or the cooperator and were ineffective in resolving the problem.

• Current integrated PDM activities, with the exception that APHIS-WS would not use toxicants for PDM.

• Current integrated PDM activities, but PDM for the protection of natural resources would be limited to protection of species federally listed under the Endangered Species Act.

• Option for the use of M-44s under any alternative that allows for the use of toxicants for PDM. APHIS-WS currently does not use this method in Idaho.

Issues for Detailed Consideration in the Analysis

In considering reasonable alternatives, the EIS will study the effects of the project on environmental issues and other issues of public concern identified as important for understanding the impacts of PDM activities. APHIS-WS and the cooperating agencies have identified the following issues for consideration in the EIS. The public is encouraged to submit comments identifying other issues that should be considered.

• Impacts on State and regional predator populations;

• Effects on nontarget animal populations including species federally listed under the Endangered Species Act;

• Impacts of the alternatives on predator-prey relationships and ecosystem processes (e.g., trophic cascades);

• Impacts on Special Management Areas, including Wilderness and Wilderness Study Areas;

• Humaneness and ethical perspectives regarding actions proposed in the alternatives;

• Effects on recreation and people's aesthetic enjoyment of wildlife, including hunting and non-consumptive uses;

• Impacts of the alternatives on Native American culture and resource uses;

• Economic costs and benefits of the proposed alternatives; and

• Risks and benefits to human and pet safety from PDM activities.

After the comment period closes, APHIS-WS will review and consider all comments received during the comment period and any other relevant information in the development of the EIS. All comments received will be available for public review as required and allowed by law. Upon completion of the draft EIS, a notice announcing its availability and an opportunity to comment will be published in the Federal Register.

The EIS will be prepared in accordance with: (1) NEPA, as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 4th day of June 2019.
Kevin Shea,
Administrator, Animal and Plant Health Inspection Service.

[FR Doc. 2019-12066 Filed 6-7-19; 8:45 am]

BILLING CODE 3410-34-P